INTERNATIONAL TRADE COMMISSION

[Investigation Nos. 701-TA-463 and 731-TA-1159 (Second Review)]

Oil Country Tubular Goods From China

Determinations

On the basis of the record ¹ developed in the subject five-year reviews, the United States International Trade Commission (“Commission”) determines, pursuant to the Tariff Act of 1930 (“the Act”), that revocation of the countervailing and antidumping duty orders on oil country tubular goods from China would be likely to lead to continuation or recurrence of material injury to an industry in the United States within a reasonably foreseeable time.

¹ The record is defined in § 207.2(f) of the Commission's Rules of Practice and Procedure (19 CFR 207.2(f)).

Background

The Commission instituted these reviews on April 1, 2020 (85 FR 18268, April 1, 2020) and determined on July 6, 2020 that it would conduct expedited reviews (85 FR 64161, October 9, 2020).

The Commission made these determinations pursuant to section 751(c) of the Act (19 U.S.C. 1675(c)). It completed and filed its determinations in these reviews on November 20, 2020. The views of the Commission are contained in USITC Publication 5136 (November 2020), entitled Oil Country Tubular Goods from China: Investigation Nos. 701-TA-463 and 731-TA-1159 (Second Review).

By order of the Commission.
Issued: November 20, 2020.
Lisa Barton,
Secretary to the Commission.

[FR Doc. 2020-26141 Filed 11-25-20; 8:45 am]

BILLING CODE 7020-02-P